DEPARTMENT OF COMMERCE

International Trade Administration

[A-489-807]

Final Results of Expedited Sunset Review: Certain Concrete Reinforcing Bars from Turkey

AGENCY: Import Administration, International Trade Administration, Department of Commerce.

ACTION: Notice of Final Results of Expedited Sunset Reviews: Certain Concrete Reinforcing Bars from Turkey.

SUMMARY: On March 1, 2002, the Department of Commerce (“the Department”) published the notice of initiation of a five-year sunset review of the antidumping duty order on reinforcing bars (“REBAR”) from Turkey, pursuant to section 751(c) of the Tariff Act of 1930, as amended (“the Act”).¹ On the basis of a notice of intent to participate and adequate substantive comments filed on behalf of domestic interested parties, and inadequate response (in this case no response) from respondent interested parties, the Department determined to conduct an expedited sunset review of this antidumping duty order. As a result of this review, the Department finds that revocation of the antidumping order would be likely lead to continuation or recurrence of dumping at the levels indicated in the “Final Results of Review” section of this notice.

¹ Notice of Initiation of Five Year “Sunset” Reviews, 67 FR 9439 (March 1, 2002).

EFFECTIVE DATE: July 9, 2002.

FOR FURTHER INFORMATION CONTACT: Martha V. Douthit or James P. Maeder, Jr., Office of Policy for Import Administration, International Trade Administration, U.S. Department of Commerce, 14th Street and Constitution Avenue, NW, Washington, D.C. 20230; telephone: (202) 482-5050 or (202) 482-3330.

SUPPLEMENTARY INFORMATION:

Statute and Regulations:

This review is conducted pursuant to sections 751(c) and 752 of the Act. The Department's procedures for the conduct of sunset reviews are set forth in Procedures for Conducting Five-year ( “Sunset”) Reviews of Antidumping and Countervailing Duty Orders, 63 FR 13516 (“Sunset Regulations”) and in 19 CFR Part 351 (2001) in general. Guidance on methodological or analytical issues relevant to the Department's conduct of sunset reviews is set forth in the Department's Policy Bulletin 98:3 Policies Regarding the Conduct of Five-year (“Sunset”) Reviews of Antidumping and Countervailing Duty Orders; Policy Bulletin, 63 FR 18871 (April 16, 1998) (“Sunset Policy Bulletin”).

Scope of Review:

The product covered by this order is all stock deformed steel concrete reinforcing bars sold in straight lengths and coils. This includes all hot-rolled deformed REBAR rolled from billet steel, rail steel, axle steel, or low- alloy steel. It excludes: (i) plain round REBAR, (ii) REBAR that a processor has further worked or fabricated, and (iii) all coated REBAR. Deformed REBAR is currently classifiable in the Harmonized Tariff Schedule of the United States (“HTSUS”) under item numbers 7213.10.000 and 7214.20.000. The HTSUS subheadings are provided for convenience and customs purposes. The written description of the scope of this proceeding is dispositive.

Background:

On March 1, 2002, the Department published the notice of initiation of the five-year sunset review of the antidumping duty order on REBAR from Turkey in accordance with section 751(c)(6)(A)(i) of the Tariff Act of 1930.² On March 18, 2002, the Department received a Notice of Intent to Participate on behalf of Ameristeel Corporation, Commercial Metals Company, Birmingham Steel Corporation, and Nucor Corporation (collectively, “the domestic interested parties”) as specified in section 351.218(d)(1)(i) of the Sunset Regulations. The domestic interested parties claim interested party status as a domestic producer of REBAR.³

² Notice of Initiation of Five Year “Sunset” Reviews, 67 FR 9439 (March 1, 2002).

³ Ameristeel was one of the two petitioners in the original investigation. Ameristeel has participated in all administrative reviews conducted by the Department since the issuance of this antidumping duty order. The domestic interested parties note they are participants in the Department's third administrative review.

On April 8, 2002, the Department received a complete substantive response from the domestic interested parties, as specified in the Sunset Regulations under section 351.218(d)(3)(i).⁴

⁴ On March 28, 2002, the Department received request from domestic interested parties for extension of time limits to file a substantive response in this proceeding. The Department granted the extension to the domestic interested parties and all participants eligible to file responses until April 8, 2002.

The Department did not receive a substantive response from any respondent interested party in this proceeding. Consequently, pursuant to section 751(c)(3)(B) of the Act, and 19 CFR 351.218(e)(1)(ii)(C), the Department conducted an expedited (120 - day) sunset review of this order.

Analysis of Comments Received:

All issues raised by the domestic interested parties to this sunset review are addressed in the Issues and Decision Memorandum (“Decision Memorandum”) from Jeffrey A. May, Director, Office of Policy, Import Administration, to Faryar Shirzad, Assistant Secretary for Import Administration, dated July 1, 2002, which is adopted by this notice. The issues discussed in the Decision Memorandum include the likelihood of continuation or recurrence of dumping and the magnitude of the margin likely to prevail were the order revoked. Parties can find a complete discussion of all issues raised in this sunset review and the corresponding recommendations in this public memorandum which is on file in the Central Records Unit, room B-099, of the Department's main building.

In addition, a complete version of the Decision Memorandum can be accessed directly on the Web at http://ia.ita.doc.gov/frn, under the heading “July 2002.” The paper copy and electronic version of the Decision Memorandum are identical in content.

Final Results of Review:

We determine that revocation of the antidumping duty order would likely lead to continuation or recurrence of dumping at the following percentage weighted-average margins:

Manufacturer/producers/exporter | Weighted-Average Margin (percent)
Colakoglu Metalurji A.S. or Colakoglu Dis Ticaret (Colakoglu) | 9.84
Ekinciler Demir Celik or Ekinciler Dis Ticaret (Ekinciler) | 18.68
Habas Sinai Ve Tibbi Gazlar Istihsal Endustrisi A.S. (Habas) | 18.54
Izmir Demir Celik Sanayi A.S. (IDC) | 41.80
Izmir Metalurji Fabrikasi Turk A.S. (Metas) | 30.16
All Others | 16.06

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a violation which is subject to sanction.

This five-year (“sunset”) review and notice are in accordance with sections 751(c), 752, and 777(i)(1) of the Act.

Dated: July 1, 2002.
Joseph A. Spetrini,
Acting Assistant Secretary for Import Administration.

[FR Doc. 02-17194 Filed 7-8-02; 8:45 am]

BILLING CODE 3510-DS-S